DEPARTMENT OF HOMELAND SECURITY

Coast Guard

[Docket No. USCG-2018-0963]

Area Maritime Security Advisory Committee (AMSC), Eastern Great Lakes Northwestern Pennsylvania Regional Sub-Committee Vacancy

AGENCY: Coast Guard, DHS.

ACTION: Notice of Solicitation for Membership.

SUMMARY: This notice requests individuals interested in serving on the AMSC, Eastern Great Lakes regional sub-committee Northwestern Pennsylvania Region submit their applications for membership to the Captain of the Port, Buffalo. The Committee assists the Captain of the Port as the Federal Maritime Security Coordinator (FMSC), Buffalo, in developing, reviewing, and updating the Area Maritime Security Plan (AMSP) for their area of responsibility.

DATES: Requests for membership should reach the U.S. Coast Guard Captain of the Port, Buffalo, by November 23, 2018.

ADDRESSES: Applications for membership should be submitted to the Captain of the Port at the following address: Captain of the Port, Buffalo, Attention: LCDR Marvin Kimmel, 1 Fuhrmann Boulevard, Buffalo, NY 14203-3189.

FOR FURTHER INFORMATION CONTACT: For questions about submitting an application, or about the AMSC in general, contact Mr. Joseph Fetscher, Northwestern Pennsylvania Region Sub-Committee Executive Coordinator, at 216-937-0126.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1.) The MTSA includes a provision exempting these AMSCs from the Federal Advisory Committee Act (FACA), Public Law 92-436, 86 Stat. 470 (5 U.S.C. App.2). The AMSCs shall assist the Federal Maritime Security Coordinator in the development, review, update, and exercising of the Area Maritime Security Plan for their area of responsibility. Such matters may include, but are not limited to: Identifying critical port infrastructure and operations; Identifying risks (threats, vulnerabilities, and consequences); Determining mitigation strategies and implementation methods; Developing strategies to facilitate the recovery of the Maritime Transportation System after a Transportation Security Incident; Developing and describing the process to continually evaluate overall port security by considering consequences and vulnerabilities, how they may change over time, and what additional mitigation strategies can be applied; and Providing advice to, and assisting the Federal Maritime Security Coordinator in developing and maintaining the Area Maritime Security Plan.

AMSC Membership

Members of the AMSC should have at least five years of experience related to maritime or port security operations. The Northwestern Pennsylvania Region Sub-Committee of the Eastern Great Lakes AMSC has 23 members. We are seeking to fill one (1) vacancy with this solicitation, an Executive Board member to serve as Vice-Chairperson of the Sub-Committee and concurrently as a member of the Eastern Great Lakes AMSC when so convened by the FMSC.

Applicants may be required to pass an appropriate security background check prior to appointment to the committee. Applicants must register with and remain active as a Coast Guard Homeport user if appointed. Member's term of office will be for five years; however, a member is eligible to serve additional terms of office. Members will not receive any salary or other compensation for their service on an AMSC. In accordance with 33 CFR 103, members may be selected from Federal, Territorial, or Tribal governments; State government and political subdivisions of the State; local public safety, crisis management, and emergency response agencies; law enforcement and security organizations; maritime industry, including labor; other port stakeholders having a special competence in maritime security; and port stakeholders affected by security practices and policies.

The Department of Homeland Security does not discriminate in selection of committee members on the basis of race, color, religion, sex, national origin, political affiliation, sexual orientation, gender identity, marital status, disability, and genetic information, age, membership in an employee organization, or any other non-merit factor. The Department of Homeland Security strives to achieve a widely diverse candidate pool for all of its recruitment actions.

Request for Applications

Those seeking membership are not required to submit formal applications to the local Captain of the Port, however, because we do have an obligation to ensure that a specific number of members have the prerequisite maritime security experience, we encourage the submission of resumes highlighting experience in the maritime and security industries.

Dated: October 18, 2018.
J.S. DuFresne,
Captain, U.S. Coast Guard, Captain of the Port/Federal Maritime Security Coordinator, Buffalo.

[FR Doc. 2018-23243 Filed 10-23-18; 8:45 am]

BILLING CODE 9110-04-P